DEPARTMENT OF AGRICULTURE

Submission for OMB Review; Comment Request

July 13, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 17, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of the Independent Review of Applications Process.

OMB Control Number: 0584-NEW.

Summary of Collection: The U.S. Department of Agriculture (USDA) Food and Nutrition Service (FNS) is conducting this voluntary study to provide key information about the processes and overall effectiveness of the Independent Review of Applications (IRA) requirement. The IRA requirement is intended to reduce the number of administrative certification errors in the National School Lunch Program (NSLP) and in the School Breakfast Program (SBP). The NSLP and SBP are federally funded meal programs operating in public and nonprofit private schools and residential childcare institutions. Federal cash reimbursement is provided to most local educational agencies (LEAs) based on certifying students as eligible for free, reduced price, or paid meal benefits. LEAs certify students through household applications or by direct certification through a household's participation in federal means-tested programs. Administrative certification errors can occur when the LEA incorrectly certifies a student as free, reduced price, or paid based on the information provided by the household in the application.

Need and Use of the Information: This study will collect data from 51 state agency child nutrition directors and from a purposive sample of LEA directors who have completed the IRA process. The data will be used to provide a description of the IRA process at the state and LEA levels, its results, and its overall effectiveness in reducing administrative certification errors.

FNS will evaluate the processes and the effectiveness of the IRA in reducing administrative certification error and will use that information to disseminate best practices and to determine if changes may be needed to the IRA requirement.

Description of Respondents: State, Local, or Tribal Government.

Number of Respondents: 204.

Frequency of Responses: Reporting: One-time.

Total Burden Hours: 433.

Ruth Brown,
Departmental Information Collection Clearance Officer.

[FR Doc. 2018-15315 Filed 7-17-18; 8:45 am]

BILLING CODE 3410-30-P